DEPARTMENT OF HOUSING AND URBAN DEVELOPMENT

[Docket No. FR-7070-N-36; OMB Control No.: 2528-New]

30-Day Notice of Proposed Information Collection: Evaluation of the Eviction Protection Grant Program

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: August 10, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna P. Guido, Reports Management Officer, REE, Department of Housing and Urban Development, 451 7th Street SW, Room 8210, Washington, DC 20410; phone number 202-402-5535 or email: PaperworkReductionActOffice@hud.gov. This is not a toll-free number, HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on April 12, 2023 at 88 FR 22063.

A. Overview of Information Collection

Title of Information Collection: Evaluation of the Eviction Protection Grant Program.

OMB Approval Number: 2528-New.

Type of Request: New Collection.

Description of the need for the information and proposed use: The purpose of this proposed information collection is to gather information in support of an evaluation of the U.S. Department of Housing and Urban Development's (HUD) Eviction Protection Grant Program. The overall purpose of the Eviction Protection Grant Program is to support experienced legal service providers, not limited to legal service corporations, in providing legal assistance at no cost to low-income tenants at risk of or subject to eviction. In 2021, HUD selected 10 grantees for the first round of awards, and in FY 2022, HUD selected 11 additional grantees for the second round of awards. HUD's evaluation of the Eviction Protection Grant Program will include data collection from the first two rounds of 21 grantees and their subrecipients that are helping to administer the program, as well as from program participants.

The evaluation of the Eviction Protection Grant Program is a mixed-methods and multiphase study designed to understand how the grantees implemented this new program and to assess the effectiveness of the grant program in supporting low-income families at risk or facing eviction through the provision of legal assistance at no-cost to eligible households. The evaluation is comprised of an implementation analysis utilizing qualitative and quantitative data to understand how the Eviction Protection Grant Program reduces or prevents eviction among program participants. The evaluation will comprehensively document the implementation of the Eviction Protection Grant Program, including a review and collection of data to understand successes and challenges to program implementation, the characteristics of grantees and other stakeholders, the types of client services provided, how grantees work with other social service providers, and program outcomes.

Over the course of the evaluation, HUD plans to conduct two rounds of data collection. The first round of primary data collection will take place early in the grant period and be focused on assessing program rollout, program take-up, and program implementation. The second round of primary data collection will take place later in the grant period and will focus on the overall experience of grantees, subrecipients, and program participants with the Eviction Protection Grant Program. Each round of data collection will include semi-structured interviews with staff from each of the 21 grantees and their 21 subrecipients, as well as data collection from program participants to understand their perspective on the program. HUD intends to conduct focus groups with program participants, but if that is not feasible, HUD will conduct 1:1 online interviews with a sample of program participants.

In the first round of data collection, HUD plans to conduct 42 semi-structured interviews, which will include 126 grantee and subrecipient staff (an average of three staff per interview). In the second round of data collection, HUD again plans to conduct 42 semi-structured interviews, which will include 126 grantee and subrecipient staff (an average of three staff per interview). Across both rounds of data collection, HUD will facilitate 21 focus groups with 105 program participants (5 program participants per focus group), and 1:1 online interviews with 42 program participants.

All outreach may be made available in language-appropriate materials suggested by grantees as relevant for their beneficiary population. Recruitment materials will also specify the process of requesting accommodations for people with limited English proficiency and reasonable accommodations for persons with disabilities.

Respondents: Staff from the 21 grantees of HUD's Eviction Protection Grant Program, staff fr.

Information Collection Form Number: N/A.

Information collection | Number of respondents | Frequency of response | Responses per annum | Burden hour per response | Annual burden hours | Hourly cost per response | Cost
Round 1: Interview with Grantee/Subrecipient Staff | 126 | 1 | 126 | 1 | 126 | $77.42 | $9,754.92
Round 2: Interview with Grantee/Subrecipient Staff | 126 | 1 | 126 | 1 | 126 | 77.42 | 9,754.92
Focus Group with Program Participants | 105 | 1 | 105 | 1.5 | 157.5 | 41.86 | 6,592.95
Interview with Program Participants | 42 | 1 | 42 | 0.75 | 31.5 | 41.86 | 1,318.59
Informed Consent to Provide Contact Information | 147 | 1 | 147 | 0.17 | 24.99 | 41.86 | 1,025.57
Informed Consent to Participate in the Study | 147 | 1 | 147 | 0.08 | 11.76 | 41.86 | 512.79
Total |  |  |  |  | 477.75 |  | 28,959.74

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and Ways to minimize the burden of the collection of information on those who are to respond; including through the use of appropriate automated collection techniques or other forms of information technology, e.g., permitting electronic submission of responses.

(4) ways to minimize the burden of the collection of information on those who are to respond, including the use of automated collection techniques or other forms of information technology.

HUD encourages interested parties to submit comments in response to these questions.

C. Authority

Section 3507 of the Paperwork Reduction Act of 1995, 44 U.S.C. Chapter 35.

Anna P. Guido,
Department Reports Management Office, Office of Policy Development and Research, Chief Data Officer.

[FR Doc. 2023-14561 Filed 7-10-23; 8:45 am]

BILLING CODE 4210-67-P